ENVIRONMENTAL PROTECTION AGENCY

40 CFR Part 52

[EPA-R05-OAR-2018-0625; FRL-9994-10-Region 5]

Air Plan Approval; Indiana; Volatile Organic Liquid Storage Tank Rules

AGENCY: Environmental Protection Agency (EPA).

ACTION: Final rule.

SUMMARY: The Environmental Protection Agency (EPA) is approving revisions to the Indiana Administrative Code (IAC) rule entitled “Volatile Organic Liquid Storage Vessels” as part of Indiana's State Implementation Plan (SIP). This rule has been revised to: Allow sources to use an alternative inspection method to demonstrate compliance, address an inconsistency in the language regarding the calculation of maximum true vapor pressure, exempt sources complying with the National Emission Standards for Hazardous Air Pollutants requirements for storage tanks equipped with floating roofs, clarify language, update references, correct certain errors, and address standard language and style changes that have occurred over time since the rule was last revised. EPA proposed to approve this rule on March 8, 2019 and received no comments.

DATES: This final rule is effective June 24, 2019.

ADDRESSES: EPA has established a docket for this action under Docket ID No. EPA-R05-OAR-2018-0625. All documents in the docket are listed in the http://www.regulations.gov website. Although listed in the index, some information is not publicly available, e.g., Confidential Business Information or other information whose disclosure is restricted by statute. Certain other material, such as copyrighted material, is not placed on the internet and will be publicly available only in hard copy form. Publicly available docket materials are available either through http://www.regulations.gov or at the EPA Region 5 office (please contact the person identified in the For Further Information Contact section for availability information).

FOR FURTHER INFORMATION CONTACT: Kathleen D'Agostino, Environmental Scientist, Attainment Planning and Maintenance Section, Air Programs Branch (AR-18J), Environmental Protection Agency, Region 5, 77 West Jackson Boulevard, Chicago, Illinois 60604, (312) 886-1767, dagostino.kathleen@epa.gov.

SUPPLEMENTARY INFORMATION: Throughout this document whenever “we,” “us,” or “our” is used, we mean EPA.

I. What is being addressed in this document?

In this action, EPA is approving amended rule IAC 8-9 Volatile Organic Liquid Storage Vessels as a revision to the Indiana SIP. As discussed more fully in the March 8, 2019 proposed approval (84 FR 8491), the Indiana Department of Environmental Management (IDEM) submitted this amended rule on August 20, 2018 and supplemented the submittal on September 28, 2018 with an email clarifying the interpretation of 326 IAC 8-9-6(i)(3). Specifically, the phrase “For other liquids,” at the beginning of 326 IAC 8-9-6(i)(3), was inadvertently retained. This phrase refers to former section 326 IAC 8-9-6(i)(2) which has been deleted. IDEM clarified that this phrase will be ignored when interpreting and/or implementing 326 IAC 8-9-6(i).

II. What comments did we receive on the proposed rule?

EPA provided a 30-day review and comment period for the March 8, 2019, proposed rule. The comment period ended on April 8, 2019. We received no comments on EPA's proposed action.

III. What action is EPA taking?

EPA is approving revisions to Indiana's SIP pursuant to section 110 and part D of the Clean Air Act (CAA) because Indiana's August 20, 2018 submission of rule 326 IAC 8-9, as supplemented on September 28, 2018, is consistent with the requirements of the CAA.

IV. Incorporation by Reference

In this rule, EPA is finalizing regulatory text that includes incorporation by reference. In accordance with requirements of 1 CFR 51.5, EPA is finalizing the incorporation by reference of the Indiana Regulations described in the amendments to 40 CFR part 52 set forth below. EPA has made, and will continue to make, these documents generally available through www.regulations.gov, and at the EPA Region 5 Office (please contact the person identified in the FOR FURTHER INFORMATION CONTACT section of this preamble for more information). Therefore, these materials have been approved by EPA for inclusion in the State implementation plan, have been incorporated by reference by EPA into that plan, are fully federally enforceable under sections 110 and 113 of the CAA as of the effective date of the final rulemaking of EPA's approval, and will be incorporated by reference in the next update to the SIP compilation.¹

¹ 62 FR 27968 (May 22, 1997).

V. Statutory and Executive Order Reviews

Under the CAA the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by July 22, 2019. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Oxides of nitrogen, Ozone, Volatile organic compounds.

Dated: May 14, 2019.
Cathy Stepp,
Regional Administrator, Region 5.

40 CFR part 52 is amended as follows:

PART 52—APPROVAL AND PROMULGATION OF IMPLEMENTATION PLANS

1. The authority citation for part 52 continues to read as follows:

Authority: 42 U.S.C. 7401 et seq.

2. In § 52.770, the table in paragraph (c) is amended under “Article 8. Volatile Organic Compound Rules”, under “Rule 9. Volatile Organic Liquid Storage Vessels:” by revising the entries for “8-9-1,” “8-9-2,” “8-9-3,” “8-9-4,” “8-9-5” and “8-9-6,” to read as follows:

§ 52.770 Identification of plan.

* * * * *

(c) * * *

EPA-Approved Indiana Regulations
Indiana citation | Subject | Indiana effective date | EPA approval date | Notes
* * * * * * *
Article 8. Volatile Organic Compounds
* * * * * * *
Rule 9. Volatile Organic Liquid Storage Vessels:
* * * * * * *
8-9-1 | Applicability | 7/16/2018 | 5/23/2019, [insert Federal Register citation]
8-9-2 | Exemptions | 7/16/2018 | 5/23/2019, [insert Federal Register citation]
8-9-3 | Definitions | 7/16/2018 | 5/23/2019, [insert Federal Register citation]
8-9-4 | Standards | 7/16/2018 | 5/23/2019, [insert Federal Register citation]
8-9-5 | Testing and procedures | 7/16/2018 | 5/23/2019, [insert Federal Register citation]
8-9-6 | Record keeping and reporting requirements | 7/16/2018 | 5/23/2019, [insert Federal Register citation] | Includes supplemental information provided on 9/28/2018.
* * * * * * *

* * * * *

[FR Doc. 2019-10725 Filed 5-22-19; 8:45 am]

BILLING CODE 6560-50-P